DEPARTMENT OF ENERGY

Federal Energy Regulatory Commission

[Project No. 2569-169]

Erie Boulevard Hydropower, L.P.; Notice of Application Tendered for Filing With the Commission and Establishing Procedural Schedule for Licensing and Deadline for Submission of Final Amendments

Take notice that the following hydroelectric application has been filed with the Commission and is available for public inspection.

a. Type of Application: New Major License.

b. Project No.: 2569-169.

c. Date Filed: August 30, 2024.

d. Applicant: Erie Boulevard Hydropower, L.P. (Erie).

e. Name of Project: Black River Hydroelectric Project (project).

f. Location: On the Black River in Jefferson County, New York.

g. Filed Pursuant to: Federal Power Act, 16 U.S.C. 791(a)-825(r).

h. Applicant Contact: Mr. Steven P. Murphy, Director—U.S. Licensing, Brookfield Renewable, 33 West 1st Street South, Fulton, NY 13069; telephone at (315) 598-6130; email at Stephen.Murphy@brookfieldrenewable.com.

i. FERC Contact: Nicholas Ettema, Project Coordinator, Great Lakes Branch, Division of Hydropower Licensing; telephone at (312) 596-4447; email at nicholas.ettema@ferc.gov.

j. The application is not ready for environmental analysis at this time.

k. Project Description: The project consists of the following five developments from upstream to downstream: the 5.0625-megawatt (MW) Herrings Development, the 10.8-MW Deferiet Development, the 5.4-MW Kamargo Development, the 6-MW Black River Development, and the 1.875-MW Sewalls Development.

Project Facilities

Herrings Development

The Herrings Development consists of a concrete dam (Herrings Dam) that includes the following sections: (1) a 536-foot-long section that includes a 512-foot-long ogee spillway with 1-foot-high flashboards that have a crest elevation of 680.1 feet North American Vertical Datum of 1988 (NAVD 88) and a 9-foot-long stoplog gate; and (2) a 137-foot-long, 33-foot-wide powerhouse that includes: (a) a 110-foot-long intake structure with nine sluice gates, a skimmer equipped with a stoplog gate, and a trashrack with 2-inch clear bar spacing; and (b) three 1.6875-MW vertical propeller turbine-generators, for a total installed capacity of 5.0625-MW. The dam creates an impoundment that has a surface area of 140 acres at 680.1 feet NAVD 88. From the impoundment, water flows through the powerhouse to an approximately 110-foot-long tailrace.

The project recreation facilities include: (1) a hand-carry boat access site on the north shoreline of the impoundment, approximately 300 feet upstream of the dam, including a picnic area and parking area; (2) an 800-foot-long portage trail that extends from the hand-carry boat access area to a put-in site on the north shoreline of the Black River, 140 feet downstream of the powerhouse; (3) a fishing access area on the north shoreline of the impoundment, approximately 100 feet upstream of the dam; and (4) a fishing access area on the north shoreline of the Black River, which is co-located with the boat put-in site downstream of the powerhouse.

The generators are connected to the regional electric grid by two 100-foot-long, 2.3-kilovolt (kV) overhead generator lead lines and a 2.3/23-kV step-up transformer. The minimum and maximum hydraulic capacities of the powerhouse are 220 and 3,435 cfs, respectively. The average annual energy production of the development from 2010 through 2020, was 55,708 megawatt-hours (MWh).

Deferiet Development

The Deferiet Development consists of a concrete dam (Deferiet Dam) that includes the following sections: (1) a 503.9-foot-long spillway with a 3-foot-high inflatable rubber crest gate with a maximum crest elevation of 659.53 feet NAVD 88; (2) a 192-foot-long section with eleven 14-foot-long stoplog gates; (3) a 52.3-foot-long non-overflow section; and (4) a headgate structure with ten sluice gates. The dam creates an impoundment that has a surface area of 70 acres at 659.53 feet NAVD 88.

From the impoundment, water flows through the headgate structure to a 4,200-foot-long power canal. From the power canal, water enters a 145.4-foot-long, 92.5-foot-wide powerhouse that includes: (1) a 107.8-foot-long intake structure that includes three sluice gates and a trashrack with 2-inch clear bar spacing; and (2) three 3.6-MW vertical Francis turbine-generators, for a total installed capacity of 10.8 MW. Water is discharged from the powerhouse to an approximately 1,400-foot-long tailrace. The development creates an approximately 1.73-mile-long bypassed reach of the Black River.

The development also includes a stoplog gate adjacent to the intake structure that conveys water to an ice chute that discharges downstream of the powerhouse.

The project recreation facilities include: (1) a hand-carry boat access site and parking area immediately east of the headgate structure; (2) a hand-carry boat portage route with a take-out site at the hand-carry boat access site, a 960-foot-long portage trail, and a put-in site on the north shoreline of the Black River, approximately 200 feet downstream of the dam; (3) a boat access site and parking area on the shoreline of an island, at the confluence of the tailrace and bypassed reach; (4) a hand-carry boat access site on the south shoreline of the impoundment, approximately 0.5 mile upstream of the dam, that includes a 170-foot-long access path and parking area; and (5) a 0.68-mile-long hiking trail that follows the northern shoreline of the Black River downstream of the dam.

The generators are connected to the regional electric grid by three 65-foot-long, 2.3-kV overhead generator lead lines and a 2.3/23-kV step-up transformer. The minimum and maximum hydraulic capacities of the powerhouse are 85 and 571 cfs, respectively. The average annual energy production of the development from 2010 through 2020, was 32,298 MWh.

Kamargo Development

The Kamargo Development consists of a concrete dam (Kamargo Dam) that includes the following sections: (1) a 188-foot-long headgate structure that includes a 131.7-foot-long section with fourteen 8-foot-long sluice gates; (2) a 168-foot-long non-overflow section; and (3) a 718-foot-long section that includes a 647-foot-long ogee spillway with 2-foot-high flashboards that have a crest elevation of 565.48 feet NAVD 88 and a 5.7-foot-long notch. The dam creates an impoundment that has a surface area of 40 acres at 565.48 feet NAVD 88.

From the impoundment, water flows through the headgate structure to a 3,850-foot-long power canal with an approximately 700-foot-long section that includes: (1) a bulkhead with flashboards that have a crest elevation of 565.48 feet NAVD 88; (2) a 190-foot-long section with a crest elevation of 566.68 NAVD 88 (3) a 230-foot-long section with 1-foot-high flashboards that have a crest elevation of 565.48 feet NAVD 88; and (4) a 160.8-foot-long ogee spillway with twelve stoplog gates. From the power canal, water enters a 97.5-foot-long, 37-foot-wide powerhouse that includes: (1) a 66-foot-long intake structure with nine sluice gates and a trashrack with 2-inch clear bar spacing; and (2) three 1.8-MW vertical Francis turbine-generators, for a total installed capacity of 5.4 MW. Water is discharged from the powerhouse to an approximately 385-foot-long tailrace. The development creates an approximately 0.69-mile-long bypassed reach of the Black River.

The project includes the Poors Island Recreation Area that includes two portage trails, fishing access areas, a picnic area, a bicycle rack, a hiking trail, and parking area.

The generators are connected to the regional electric grid by four 25-foot-long, 2.3-kV underground generator lead lines and a 2.3/23-kV step-up transformer. The minimum and maximum hydraulic capacities of the powerhouse are 450 and 3,300 cfs, respectively. The average annual energy production of the development from 2010 through 2020, was 21,512 MWh.

Black River Development

The Black River Development consists of a dam (Black River Dam) that includes the following sections: (1) a 30-foot-long retaining wall; (2) a 36.5-foot-long non-overflow section with two sluice gates; (3) a 296-foot-long section that includes a 291-foot-long ogee spillway with 2-foot-high flashboards that have a crest elevation of 535.68 feet NAVD 88, a notch and a 5-foot-long stoplog gate; and (4) a 99.6-foot-long headgate structure that includes a 79.6-foot-long section with twelve sluice gates. The dam creates an impoundment that has a surface area of 25 acres at 535.68 feet NAVD 88.

From the impoundment, water flows through the headgate structure to a 2,250-foot-long power canal that includes: (1) a 250-foot-long waste weir with a crest elevation of 537.68 NAVD 88; and (2) a 134-foot-long waste weir with 2-foot-high flashboards and a low-level outlet gate. From the power canal, water enters a 117.8-foot-long, 66.3-foot-wide powerhouse that includes: (1) an 81.8-foot-long intake structure that includes nine sluice gates, a skimmer equipped with two sluice gates, and a trashrack with 2-inch clear bar spacing; (2) three 2-MW vertical Francis turbine-generators, for a total installed capacity of 6 MW. Water is discharged from the powerhouse to an approximately 100-foot-long tailrace. The development creates an approximately 0.6-mile-long bypassed reach of the Black River.

The project recreation facilities include: (1) a parking area, picnic area, and fishing platform, referred to as the “Stone Drive Recreation Area,” located on the north shoreline of the impoundment, approximately 110 feet upstream of the dam; (2) a hand-carry boat portage route with an impoundment take-out site at the Stone Drive Recreation Area, a 0.3-mile-long portage trail, and a put-in site on the east shoreline of the Black River, approximately 550 feet downstream of the dam; and (3) a picnic and parking area located approximately 500 feet southeast of the dam.

The generators are connected to the regional electric grid by two 95-foot-long, 2.3-kV underground generator lead lines and a 2.3/23-kV step-up transformer. The minimum and maximum hydraulic capacities of the powerhouse are 220 and 3,210 cfs, respectively. The average annual energy production of the development from 2010 through 2020, was 32,692 MWh.

Sewalls Development

The Sewalls Development consists of a concrete dam (Sewalls Dam) that includes the following sections: (1) a south dam section that includes: (a) a 243-foot-long ogee spillway with a crest elevation of 463.73 feet NAVD 88; (b) an 18-foot-long section with two 7.5-foot-long stoplog gates; and (c) a 47.5-foot-long headgate structure two 15-foot-long sluice gates; and (2) a north dam section that includes a 95.9-foot-long spillway with a crest elevation of 463.73 feet NAVD 88 and a 3.61-foot-long notch. The dam creates an impoundment that has a surface area of 4 acres at 463.73 feet NAVD 88.

From the impoundment, water flows through the sluice gates of the headgate structure to a 400-foot-long power canal that includes 2-foot-high flashboards along its entire length, a sluice gate, and a low-level outlet gate. From the power canal, water enters a 81-foot-long, 32-foot-wide powerhouse that includes: (1) a 69-foot-long intake structure with four sluice gates and a trashrack with 2-inch clear bar spacing; and (2) two 0.9375-MW vertical propeller turbine-generators, for a total installed capacity of 1.875 MW. Water is discharged from the powerhouse to an approximately 129-foot-long tailrace. The development creates an approximately 400-foot-long bypassed reach of the Black River downstream of the south dam (south channel bypassed reach); and an approximately 528-foot-long bypassed reach downstream of the north dam (north channel bypassed reach).

The project recreation facilities include: (1) a parking area and scenic overlook on the south shoreline of the impoundment, immediately upstream of the spillway; and (2) a hand-carry boat portage route that includes a portage trail with an impoundment take-out site on the south shoreline of the impoundment, approximately 50 feet upstream of the spillway.

The generators are connected to the regional electric grid by two 50-foot-long, 2.3-kV underground generator lead lines and a 2.3/23-kV step-up transformer. The minimum and maximum hydraulic capacities of the powerhouse are 450 and 1,800 cfs, respectively. The average annual energy production of the development from 2010 through 2020, was 11,394 MWh.

Project Operation

Article 401 of the current license requires Erie to maintain the surface elevation of each impoundment at no lower than 0.5 foot below either the crest elevation of the dam or the crest of the flashboards, when in place. During the period of May 1 through September 30, when inflow is between 1,400 and 1,900 cfs, Article 402 requires Erie to maintain the surface elevation of the impoundment at the Herrings Development no lower than 0.2 foot below either the crest elevation of the dam or the crest of the flashboards when in place, to the extent possible. Article 402 also requires Erie to operate the Sewalls Development in a run-of-river mode from May 1 through September 30, when inflow is below 2,000 cfs, such that outflow approximates inflow to the impoundment at any given point in time. Article 404 requires a minimum flow of 1,000 cfs or inflow, whichever is less, downstream of each development.

Article 403 requires Erie to install flashboards at each development by May 1 or as soon thereafter as safely possible, and remove the flashboards in the fall prior to ice conditions. Article 410 requires Erie to install trashrack overlays with 1-inch clear bar spacing at the top half portion of the trashracks of each development, except the Sewalls Development, from May 1 through October 1.

To protect aquatic habitat in the bypassed reaches and provide downstream fish passage, Article 405 requires Erie to release the following minimum flows: (1) for the Herrings Development, 20 cfs through the 9-foot-long stoplog gate adjacent to the trashracks; (2) for the Deferiet Development: (a) 45 cfs through the ice chute; and (b) the following flows from the spillway and leakage at the dam: 800 cfs during walleye spawning season and 245 cfs for the remainder of the year; (3) for the Kamargo Development, 120 cfs through the notch in the spillway; (4) for the Black River Development: (a) 80 cfs through the notch in the flashboards; and (b) 300 cfs from the notch and stoplog gate during walleye spawning season; and (5) for the Sewalls Development: (a) 137 cfs of leakage “or other mechanisms” to the south channel bypassed reach; and (b) 32 cfs to the north channel bypassed reach that includes 20 cfs through the notch in the spillway and 12 cfs of leakage “or other mechanisms.”

The current license also requires the implementation of a Flow Monitoring Plan to ensure compliance with the project flow requirements and a Record Keeping Plan to maintain records of the impoundment elevations and discharges at each of the five developments, in compliance with Articles 408 and 409.

Article 413 requires the implementation of a Recreation Plan that requires operation and maintenance of the project recreation facilities. Article 416 requires the implementation of a Cultural Resources Management Plan to protect historic properties. Article 415 requires Erie to maintain the existing woodland buffer areas along the five developments' shorelines and provide buffers along the access road and parking area at the Deferiet Development.

Erie is not proposing to add any new project facilities. However, Erie proposes to revise the project boundary around the impoundments to follow the normal maximum impoundment elevations and add/remove land that is occupied by or adjacent to project facilities, which would result in a net decrease of land and water in the project boundary from 773 acres under the current license to 763.7 acres under the proposed license.

Erie proposes to continue operating the project as required under the current license. Erie proposes to update the Recreation Plan and Streamflow and Headpond Monitoring Plan. In addition, Erie proposes to develop a minimum flow fish conveyance plan and a historic properties management plan. Erie also proposes to: (1) develop the trail to the impoundment fishing access area at the Herrings Development; (2) enhance the staircase at the hand-carry boat put-in site at the Deferiet Development, to improve access for whitewater boaters; and (3) notify the public, via an online platform, of bypassed reach flows and safety information for the Deferiet Development.

l. In addition to publishing the full text of this notice in the Federal Register, the Commission provides all interested persons an opportunity to view and/or print the contents of this notice, as well as other documents in the proceeding (e.g., license application) via the internet through the Commission's Home Page (http://www.ferc.gov) using the “eLibrary” link. Enter the docket number excluding the last three digits in the docket number field to access the document (P-2569). For assistance, contact FERC at FERCOnlineSupport@ferc.gov, (866) 208-3676 (toll free), or (202) 502-8659 (TTY).

You may also register online at https://ferconline.ferc.gov/FERCOnline.aspx to be notified via email of new filings and issuances related to this or other pending projects. For assistance, contact FERC Online Support.

m. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

n. Procedural Schedule: The application will be processed according to the following preliminary schedule. Revisions to the schedule will be made as appropriate.

Deficiency Letter and Additional Information Request—September 2024

Notice of Acceptance—February 2025

o. Final amendments to the application must be filed with the Commission no later than 30 days from the issuance date of the notice of ready for environmental analysis.

Dated: September 13, 2024.
Debbie-Anne A. Reese,
Acting Secretary.

[FR Doc. 2024-21484 Filed 9-19-24; 8:45 am]

BILLING CODE 6717-01-P